DEPARTMENT OF TRANSPORTATION

Federal Aviation Administration

14 CFR Part 39

[Docket No. FAA-2017-0511; Product Identifier 2016-NM-176-AD; Amendment 39-19036; AD 2017-19-06]

RIN 2120-AA64

Airworthiness Directives; Bombardier, Inc., Airplanes

AGENCY: Federal Aviation Administration (FAA), Department of Transportation (DOT).

ACTION: Final rule.

SUMMARY: We are adopting a new airworthiness directive (AD) for certain Bombardier, Inc. Model CL-600-1A11 (CL-600), CL-600-2A12 (CL-601 Variant), and CL-600-2B16 (CL-601-3A, CL-601-3R, and CL-604 Variants) airplanes. This AD was prompted by a new life limitation that has been introduced for the side brace fitting shaft and side brace-to-airplane fitting pin of the main landing gear (MLG). This AD requires revising the maintenance or inspection program. This AD also requires an inspection to identify the serial number, to serialize, and to record the accumulated life of the side brace fitting shaft of the MLG. We are issuing this AD to address the unsafe condition on these products.

DATES: This AD is effective October 27, 2017.

The Director of the Federal Register approved the incorporation by reference of certain publications listed in this AD as of October 27, 2017.

ADDRESSES: For service information identified in this final rule, contact Bombardier, Inc., 400 Côte-Vertu Road West, Dorval, Québec H4S 1Y9, Canada; Widebody Customer Response Center North America toll-free telephone 1-866-538-1247 or direct-dial telephone 1-514-855-2999; fax 514-855-7401; email ac.yul@aero.bombardier.com; Internet http://www.bombardier.com. You may view this referenced service information at the FAA, Transport Standards Branch, 1601 Lind Avenue SW., Renton, WA. For information on the availability of this material at the FAA, call 425-227-1221. It is also available on the Internet at http://www.regulations.gov by searching for and locating Docket No. FAA-2017-0511.

Examining the AD Docket

You may examine the AD docket on the Internet at http://www.regulations.gov by searching for and locating Docket No. FAA-2017-0511; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE., Washington, DC 20590.

FOR FURTHER INFORMATION CONTACT: Aziz Ahmed, Aerospace Engineer, Airframe and Mechanical Systems Section, FAA, New York ACO Branch, 1600 Stewart Avenue, Suite 410, Westbury, NY 11590; telephone 516-228-7329; fax 516-794-5531.

SUPPLEMENTARY INFORMATION:

Discussion

We issued a notice of proposed rulemaking (NPRM) to amend 14 CFR part 39 by adding an AD that would apply to certain Bombardier, Inc. Model CL-600-1A11 (CL-600), CL-600-2A12 (CL-601 Variant), and CL-600-2B16 (CL-601-3A, CL-601-3R, and CL-604 Variants) airplanes. The NPRM published in the Federal Register on June 7, 2017 (82 FR 26403) (“the NPRM”).

Transport Canada Civil Aviation (TCCA), which is the aviation authority for Canada, has issued Canadian Airworthiness Directive CF-2016-17R2, dated June 29, 2016 (referred to after this as the Mandatory Continuing Airworthiness Information, or “the MCAI”), to correct an unsafe condition for certain Bombardier, Inc., Model CL-600-1A11 (CL-600), CL-600-2A12 (CL-601 Variant), and CL-600-2B16 (CL-601-3A, CL-601-3R, and CL-604 Variants) airplanes. The MCAI states:

Based on in-service experience, a new life limitation has been introduced for the following side brace fitting shaft part numbers:

• 600-10237-1/-5

• 600-10237-3

• 601R10237-1/-3

In order to facilitate identification and tracking, the component must be identified and serialized. Bombardier has revised the Time Limits/Maintenance Checks (TLMC) Manual to include new life limits and issued Service Bulletins (SB) for serialization of the affected parts.

The original version of this [Canadian] AD was issued to mandate the incorporation of the new TLMC life limits as well as identification and serialization of the affected parts. The revision 1 of this [Canadian] AD was issued * * * June [10,] 2016 to correct a typographic error in Table A of the Corrective Actions section. The revision 2 of this [Canadian] AD is being issued to correct/update the TLMC data in Table A of the Corrective Actions section.

Required actions include an inspection to identify the serial number, to serialize, and to record the accumulated life of the side brace fitting shaft of the MLG. The unsafe condition is the loss of structural integrity of the affected part. You may examine the MCAI in the AD docket on the Internet at http://www.regulations.gov by searching for and locating Docket No. FAA-2017-0511.

Comments

We gave the public the opportunity to participate in developing this AD. We received no comments on the NPRM or on the determination of the cost to the public.

Conclusion

We reviewed the relevant data and determined that air safety and the public interest require adopting this AD as proposed except for minor editorial changes. We have determined that these minor changes:

• Are consistent with the intent that was proposed in the NPRM for correcting the unsafe condition; and

• Do not add any additional burden upon the public than was already proposed in the NPRM.

Related Service Information Under 1 CFR Part 51

We have reviewed the following service information. This service information describes the life limits for the side brace fitting shaft and side brace-to-airplane fitting pin of the MLG. This service information is distinct since it applies to different airplane models in different configurations.

• Section 5-10-10, Time Limits (Structural), of the Airworthiness Limitations, of the Bombardier Challenger 600 Time Limits/Maintenance Checks Manual, Publication No. PSP 605, Revision 37, dated April 29, 2016.

• Section 5-10-10, Time Limits (Structural)—Pre SB 601-0280, of the Airworthiness Limitations, of the Bombardier Challenger 601 Time Limits/Maintenance Checks Manual, Publication No. PSP 601-5, Revision 42, dated April 22, 2014.

• Section 5-10-10, Time Limits (Structural), of the Airworthiness Limitations, of the Bombardier Challenger 601 Time Limits/Maintenance Checks Manual, Publication No. PSP 601A-5, Revision 38, dated April 22, 2014.

• Section 5-10-10, Life Limits (Structures), of Part 2, Airworthiness Limitations, of the Bombardier Challenger CL-604 Time Limits/Maintenance Checks Manual, Publication No. CH 604 TLMC, Revision 26, dated June 9, 2016.

• Section 5-10-10, Life Limits (Structures) to Part 2, Airworthiness Limitations, of the Bombardier Challenger CL-605 Time Limits/Maintenance Checks Manual, Publication No. CH 605 TLMC, Revision 14, dated June 9, 2016.

We have also reviewed the following service information. This service information describes procedures for an inspection to identify the serial number, to serialize, and to record the accumulated life of the side brace fitting shaft of the MLG. The service bulletins are distinct since they apply to different airplane models.

• Bombardier Service Bulletin 600-0768, dated September 9, 2014.

• Bombardier Service Bulletin 601-0636, Revision 01, dated May 10, 2016.

• Bombardier Service Bulletin 604-57-005, dated September 9, 2014.

• Bombardier Service Bulletin 605-57-003, dated September 9, 2014.

This service information is reasonably available because the interested parties have access to it through their normal course of business or by the means identified in the ADDRESSES section.

Costs of Compliance

We estimate that this AD affects 133 airplanes of U.S. registry.

We estimate the following costs to comply with this AD:

Estimated Costs
Action | Labor cost | Parts cost | Cost per product | Cost on U.S. operators
Maintenance or inspection program revision | 1 work-hour × $85 per hour = $85 | $0 | $85 | $11,305
Inspection, identification, serialization, and recording | 1 work-hour × $85 per hour = $85 | 33 | 118 | 15,694

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-19-06 Bombardier, Inc.: Amendment 39-19036; Docket No. FAA-2017-0511; Product Identifier 2016-NM-176-AD.

(a) Effective Date

This AD is effective October 27, 2017.

(b) Affected ADs

None.

(c) Applicability

This AD applies to the airplanes specified in paragraphs (c)(1) through (c)(3) of this AD, certificated in any category.

(1) Bombardier, Inc. Model CL-600-1A11 (CL-600) airplanes, serial numbers 1004 through 1085 inclusive.

(2) Bombardier, Inc. Model CL-600-2A12 (CL-601 Variant) airplanes, serial numbers 3001 through 3066 inclusive.

(3) Bombardier, Inc. Model CL-600-2B16 (CL-601-3A, CL-601-3R, and CL-604 Variants) airplanes, serial numbers 5001 through 5194 inclusive; serial numbers 5301 through 5665 inclusive, and serial numbers 5701 through 5851 inclusive.

(d) Subject

Air Transport Association (ATA) of America Code 57, Wings.

(e) Reason

This AD was prompted by a new life limitation that has been introduced for the side brace fitting shaft and side brace-to-airplane fitting pin of the main landing gear (MLG). We are issuing this AD to prevent the loss of structural integrity of the affected part.

(f) Compliance

Comply with this AD within the compliance times specified, unless already done.

(g) Revision of Maintenance or Inspection Program

Within 30 days after the effective date of this AD, revise the maintenance or inspection program, as applicable, by incorporating the life limits for the side brace fitting shaft and side brace-to-airplane fitting pin of the MLG, as applicable, identified in table 1 to paragraph (g) of this AD. The initial compliance time for accomplishing the replacement is at the applicable time in the Bombardier Time Limits/Maintenance Checks (TLMC) Manual revisions specified in table 1 to paragraph (g) of this AD, or within 30 days after the effective date of this AD, whichever occurs later.

Table 1 to Paragraph (g) of This AD—Life Limits for the Affected Parts
Airplane model (serial Nos. (S/Ns)) | Part name | Part No. | TLMC manual No. | Section | Revision No. | Revision date
CL-600-1A11 (S/Ns 1004 through 1085 inclusive) | MLG Side Brace-to-Airplane Fitting Pin | 600-10237-1/-5 | PSP 605 | 5-10-10 | 37 | April 29, 2016.
CL-600-2A12 (S/N 3001-3066 inclusive) | MLG Side Brace-to-Airplane Fitting Pin | 600-10237-3 | PSP 601-5 | 5-10-10 | 42 | April 22, 2014.
CL-600-2B16 (S/Ns 5001-5194 inclusive) | MLG Side Brace-to-Airplane Fitting Pin | 600-10237-3 | PSP 601A-5 | 5-10-10 | 38 | April 22, 2014.
CL-600-2B16 (S/Ns 5301-5665 inclusive) | MLG Side Brace Fitting Shaft | 601R10237-1/-3 | CL-604 | 5-10-10 (Part 2) | 26 | June 9, 2016.
CL-600-2B16 (S/Ns 5701-5851 inclusive) | MLG Side Brace Fitting Shaft | 601R10237-1/-3 | CL-605 | 5-10-10 (Part 2) | 14 | June 9, 2016.

(h) Inspection, Serialization, and Recording of Life Limited Parts

Within 48 months after the effective date of this AD: Inspect to identify the serial number, serialize, and record the accumulated life of the side brace fitting shaft of the MLG, as applicable, in accordance with the Accomplishment Instructions of the applicable service information identified in paragraphs (h)(1) through (h)(4) of this AD.

(1) For CL-600-1A11 airplanes (S/Ns 1004 through 1085 inclusive): Bombardier Service Bulletin 600-0768, dated September 9, 2014.

(2) For CL-600-2A12 (S/Ns 3001 through 3066 inclusive) and CL-600-2B16 airplanes (S/Ns 5001 through 5194 inclusive): Bombardier Service Bulletin 601-0636, Revision 01, dated May 10, 2016.

(3) For CL-600-2B16 airplanes (S/Ns 5301 through 5665 inclusive): Bombardier Service Bulletin 604-57-005, dated September 9, 2014.

(4) For CL-600-2B16 airplanes (S/Ns 5701 through 5851 inclusive): Bombardier Service Bulletin 605-57-003, dated September 9, 2014.

(i) No Reporting Requirement

Although the service information identified in paragraphs (h)(1) through (h)(4) of this AD specifies to submit certain information to the manufacturer, this AD does not include that requirement.

(j) No Alternative Actions and Intervals

After the maintenance or inspection program has been revised, as applicable, as required by paragraph (g) of this AD, no alternative actions (e.g., inspections) or intervals may be used unless the actions or intervals are approved as an alternative method of compliance (AMOC) in accordance with the procedures specified in paragraph (k)(1) of this AD.

(k) Other FAA AD Provisions

The following provisions also apply to this AD:

(1) Alternative Methods of Compliance (AMOCs)

The Manager, New York ACO Branch, FAA, has the authority to approve AMOCs for this AD, if requested using the procedures found in 14 CFR 39.19. In accordance with 14 CFR 39.19, send your request to your principal inspector or local Flight Standards District Office, as appropriate. If sending information directly to the manager of the certification office, send it to ATTN: Program Manager, Continuing Operational Safety, FAA, New York ACO Branch, 1600 Stewart Avenue, Suite 410, Westbury, NY 11590; telephone 516-228-7300; fax 516-794-5531. Before using any approved AMOC, notify your appropriate principal inspector, or lacking a principal inspector, the manager of the local flight standards district office/certificate holding district office.

(2) Contacting the Manufacturer

For any requirement in this AD to obtain corrective actions from a manufacturer, the action must be accomplished using a method approved by the Manager, New York ACO Branch, FAA; or Transport Canada Civil Aviation (TCCA); or Bombardier, Inc.'s TCCA Design Approval Organization (DAO). If approved by the DAO, the approval must include the DAO-authorized signature.

(l) Related Information

(1) Refer to Mandatory Continuing Airworthiness Information (MCAI) Canadian Airworthiness Directive CF-2016-17R2, dated June 29, 2016, for related information. This MCAI may be found in the AD docket on the Internet at http://www.regulations.gov by searching for and locating Docket No. FAA-2017-0511.

(2) For more information about this AD, contact Aziz Ahmed, Aerospace Engineer, Airframe and Mechanical Systems Section, FAA, New York ACO Branch, 1600 Stewart Avenue, Suite 410, Westbury, NY 11590; telephone 516-228-7329; fax 516-794-5531.

(m) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Section 5-10-10, Time Limits (Structural), of the Airworthiness Limitations, of the Bombardier Challenger 600 Time Limits/Maintenance Checks Manual, Publication No. PSP 605, Revision 37, dated April 29, 2016. The revision level is only identified in the Record of Revisions.

(ii) Section 5-10-10, Time Limits (Structural)—Pre SB 601-0280, of the Airworthiness Limitations, of the Bombardier Challenger 601 Time Limits/Maintenance Checks Manual, Publication No. PSP 601-5, Revision 42, dated April 22, 2014. The revision level is only identified in the Record of Revisions.

(iii) Section 5-10-10, Time Limits (Structural), of the Airworthiness Limitations, of the Bombardier Challenger 601 Time Limits/Maintenance Checks Manual, Publication No. PSP 601A-5, Revision 38, dated April 22, 2014. The revision level is only identified in the Record of Revisions.

(iv) Section 5-10-10, Life Limits (Structures), of Part 2, Airworthiness Limitations, of the Bombardier Challenger CL-604 Time Limits/Maintenance Checks Manual, Publication No. CH 604 TLMC, Revision 26, dated June 9, 2016. The revision level is only identified in the Record of Revisions.

(v) Section 5-10-10, Life Limits (Structures) to Part 2, Airworthiness Limitations, of the Bombardier Challenger CL-605 Time Limits/Maintenance Checks Manual, Publication No. CH 605 TLMC, Revision 14, dated June 9, 2016. The revision level is only identified in the Record of Revisions.

(vi) Bombardier Service Bulletin 600-0768, dated September 9, 2014.

(vii) Bombardier Service Bulletin 601-0636, Revision 01, dated May 10, 2016.

(viii) Bombardier Service Bulletin 604-57-005, dated September 9, 2014.

(ix) Bombardier Service Bulletin 605-57-003, dated September 9, 2014.

(3) For service information identified in this AD, contact Bombardier, Inc., 400 Côte-Vertu Road West, Dorval, Québec H4S 1Y9, Canada; Widebody Customer Response Center North America toll-free telephone 1-866-538-1247 or direct-dial telephone 1-514-855-2999; fax 514-855-7401; email ac.yul@aero.bombardier.com; Internet http://www.bombardier.com.

(4) You may view this service information at the FAA, Transport Standards Branch, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on September 7, 2017.
Jeffrey E, Duven,
Director, System Oversight Division, Aircraft Certification Service.

[FR Doc. 2017-19654 Filed 9-21-17; 8:45 am]

BILLING CODE 4910-13-P